ENVIRONMENTAL PROTECTION AGENCY

40 CFR Part 52

[R04-OAR-2005-TN-0004-200526(b); FRL-8014-5]

Approval and Promulgation of Implementation Plans; Tennessee and Nashville-Davidson County; Approval of Revisions to the State Implementation Plan

AGENCY: Environmental Protection Agency (EPA).

ACTION: Proposed rule.

SUMMARY: The EPA is proposing to approve non-regulatory revisions to the Tennessee State Implementation Plan (SIP) and regulatory revisions to the Nashville-Davidson portion of the Tennessee SIP, submitted by the State of Tennessee through the Tennessee Department of Environment and Conservation (TDEC) on January 26, 1999, October 11, 2001, and April 15, 2005. The revisions amend the Vehicle Inspection and Maintenance program in Nashville-Davidson County and the Nashville (Middle Tennessee) Ozone Maintenance Area Plan. In the Rules Section of this Federal Register, the EPA is approving the SIP revisions as a direct final rule without prior proposal because the Agency views this as a noncontroversial submittal and anticipates no adverse comments. A detailed rationale for the approval is set forth in the direct final rule. If no significant, material, and adverse comments are received in response to this rule, no further activity is contemplated. If EPA receives adverse comments, the direct final rule will be withdrawn and all public comments received will be addressed in a subsequent final rule based on this proposed rule. The EPA will not institute a second comment period on this document. Any parties interested in commenting on this document should do so at this time.

DATES: Written comments must be received on or before February 2, 2006.

ADDRESSES: Comments may be submitted by mail to: Anne Marie Hoffman, Regulatory Development Section, Air Planning Branch, Air, Pesticides and Toxics Management Division, U.S. Environmental Protection Agency, Region 4, 61 Forsyth Street, SW., Atlanta, Georgia 30303-8960. Comments may also be submitted electronically, or through hand delivery/courier. Please follow the detailed instructions described in the direct final rule, ADDRESSES section which is published in the Rules Section of this Federal Register.

FOR FURTHER INFORMATION CONTACT: Anne Marie Hoffman, Regulatory Development Section, Air Planning Branch, Air, Pesticides and Toxics Management Division, U.S. Environmental Protection Agency, Region 4, 61 Forsyth Street, SW., Atlanta, Georgia 30303-8960. The telephone number is (404) 562-9074. Ms. Hoffman can also be reached via electronic mail at hoffman.annemarie@epa.gov.

SUPPLEMENTARY INFORMATION: For additional information see the direct final rule which is published in the Rules Section of this Federal Register.

Dated: December 9, 2005.
A. Stanley Meiburg,
Acting Regional Administrator, Region 4.

[FR Doc. 05-24412 Filed 12-30-05; 8:45 am]

BILLING CODE 6560-50-P